DEPARTMENT OF HEALTH AND HUMAN SERVICES

Partners Invited To Participate in Steps to a HealthierUS

AGENCY: Department of Health and Human Services, Office of the Secretary.

ACTION: Notice.

SUMMARY: The Department of Health and Human Services (HHS) seeks to work with other public and private sector organizations to support a new Federal initiative to promote better health for all Americans. This initiative is called Steps to a HealthierUS and is part of the President's HealthierUS Initiative to help Americans live longer, better, and healthier lives. This Steps Partnership initiative is not a grant or contract award program and each partner will be responsible for supporting its own activities. Working together, it is intended that these partnerships will provide innovative opportunities to promote healthier living and successfully promote the principles and efforts of the Steps initiative. More information about Steps is available at: http://www.healthierus.gov/steps/. Partnerships are not limited to any existing list of priority projects.

DATES: Comments expressing or affirming an interest in the Steps to a HealthierUS Partnerships initiative will be most useful if received within three months of the publication of this notice. Contact identification information to permit further discussion and consideration of ideas of mutual interest may be sent to either the street address or the email address set out in the next paragraph.

ADDRESSES: Expressions of interest, comments and questions may be sent to the following email address, StepsPartnerships@osophs.dhhs.gov, or by regular mail with contact information, as appropriate, to: Steps to a HealthierUS Partnerships, c/o Office of Public Health & Science, U.S. Department of Health and Human Services, 200 Independence Avenue SW, Room 738G, Washington DC 20201.

Organization representatives may also call the following information line: 1(800) 631-0926. Callers will be directed to appropriate agency officials or to other collaborating partners with similar or complementary interests for further discussions.

SUPPLEMENTARY INFORMATION: HHS is the United States government's principal agency for promoting and protecting the health of all Americans. HHS manages many programs, covering a broad spectrum of health promotion and disease prevention services and activities. Leaders in the business community, State and local government officials, tribes and tribal entities and charitable, faith-based, and community organizations have expressed an interest in partnering with the Department to promote healthy choices and behaviors. The Secretary welcomes this interest. With this notice, the Secretary outlines opportunities for these and other entities to partner with HHS, in order to address health promotion and chronic disease prevention and control activities. The Steps program will be carried out consistent with HHS's broad statutory authorities found in 42 U.S.C. 238, 241, 280e-11, 280h-280h-3, and 300u-300u-3 and, in some cases, pursuant to more particular, pertinent Public Health Service Act provisions or other HHS program statutes.

In recent years, the public has become more aware of the burden of illness and death caused by chronic diseases such as asthma, cancer, diabetes, heart disease, obesity, and stroke—and of the connection between these chronic diseases and lifestyle choices involving tobacco use, improper diet, and lack of exercise. Despite this new understanding and awareness, more than 1.7 million Americans die of a chronic disease each year, accounting for about 70% of all U.S. deaths. In addition, more than 175 million Americans live with chronic conditions, with millions of new cases diagnosed each year. These serious diseases are often treatable, but not generally curable. Thus, the Secretary believes it is important and timely for the Nation to increase prevention efforts to fight chronic disease.

The Steps to a HealthierUS initiative focuses on both health promotion and chronic disease prevention and control through the following activities:

1. Community-based education programs highlighting steps that can be taken to prevent or reduce the incidence of chronic diseases;

2. Health promoting programs and environments in school, worksite, faith-based and community-based settings;

3. Improved access to preventive, diagnostic and treatment services;

4. The elimination of racial, ethnic, and socioeconomic-based health disparities;

5. Improved delivery of evidence-based clinical preventive services and chronic disease management; and

6. Evaluation of chronic disease prevention and health promotion interventions.

Introduction

Federal health promotion and chronic disease prevention goals cannot be achieved without

(a) Change in individual behavioral practices and change in organizational cultures and actions, both based on increased knowledge and understanding;

(b) Optimal utilization of preventive or treatment services; along with

(c) Improvement in prevention, diagnostic, and treatment technologies and systems.

HHS has limited resources with which to achieve implementation of large-scale nationwide changes. Moreover, to achieve such societal changes, the involvement of both public and private organizations is necessary. For efforts of this magnitude, the Department periodically invites outside organizations to join in carrying out activities of mutual interest to achieve shared objectives. These partnerships are voluntary. The parties work together to carry out their respective, consistent missions for the common good.

Collaboration With Public and Private Sector Organizations

In order to implement the Steps nationwide initiative, HHS is interested in establishing partnerships with private corporations and other entities, including charitable, faith-based, and community organizations, as well as with State and local governments, that can help extend the program's reach to all Americans. In accordance with each entity's particular strengths and abilities, partnerships will be established; each partner will be responsible for providing the resources necessary to carry out specified activities of mutual interest.

As partners with HHS, both public and private sector organizations can bring their respective ideas and expertise, administrative capabilities, and production and material resources, that are consistent with the goals of the Steps initiative, to, for example:

(a) Share in the development of educational health information and its distribution to employees or to the public, e.g., promoting healthy lifestyles to prevent chronic diseases, programs aimed at improving consumers' understanding of how proper dietary choices and physical activity can improve health and prevent obesity and other chronic diseases or providing practical guidance and information on how to obtain diagnostic and treatment services. Public education efforts could include Web-site and software development, work with local or national media, and sponsorship of health promotion events, each activity generally enhancing consumer understanding of health information related to health promoting behaviors and chronic disease prevention and control;

(b) Foster the creation and maintenance of effective health and wellness and physical activity programs that provide clear measurable results;

(c) Participate in the development of health professional educational activities, including conference co-sponsorship or co-publication and dissemination of professional educational materials, such as reports of proceedings and any resulting recommendations; and

(d) Conduct or support chronic disease prevention research, or undertake scientific testing and evaluation of commercial products related to the Steps initiative, such as interactive computer software and media tools.

Partnership agreements will make clear that there will be no Federal endorsement of commercial products or of particular companies. HHS will have a right to review the use of Department logos and statements related to Steps on such materials and products to ensure that they are suitable for the initiative and that government neutrality with respect to commercial products is maintained. When the Steps logo is approved for use on commercial materials or products that promote healthier lifestyles or foster other Steps objectives and are incorporated in Steps initiative activities, a disclaimer will be required to be printed on, or affixed to commercial partner materials and products indicating that the use of the logo does not imply any Federal endorsement or warranty of a particular commercial product or of other products of a particular company.

Evaluation Criteria

After engaging in exploratory discussions of potential partnerships and partnership activities with respondents, the following considerations will be used by HHS officials, as appropriate and relevant, to determine whether HHS will engage in partnership activities with particular entities and the scope of those activities.

1. Are the activities proposed by the offering entity likely to provide a substantial public health benefit, consistent with HHS goals and the Steps to a HealthierUS Initiative?

2. Does the proposed partnership's potential for public health benefit outweigh any potential negative impact on the agency and its ability to accomplish its missions? What adjustments if any, would make the proposal acceptable?

3. Is there an identifiable and appropriate role for HHS?

4. Does the outside entity have the expertise and capacity to carry out its proposed activities?

5. Has the outside entity demonstrated a willingness to work collaboratively with other public and private sector organizations to achieve the stated Steps to a HealthierUS goals or to advance related efforts, activities, or initiatives?

Given the Steps Initiative's objectives, entities who have similar goals and consistent interests, appropriate expertise and resources, and would like to pursue chronic disease prevention and health promotion activities within their own organizations, or on a broader scale, in collaboration with the Department, are encouraged to reply to this notice. Working together, it is intended that these partnerships will provide innovative opportunities to promote healthier living.

Dated: October 16, 2003.
Cristina V. Beato,
Acting Assistant Secretary for Health.

[FR Doc. 03-26628 Filed 10-21-03; 8:45 am]

BILLING CODE 4150-32-P